DEPARTMENT OF HEALTH AND HUMAN SERVICES

National Institutes of Health

National Institute of Mental Health; Amended Notice of Meeting

Notice is hereby given of a change in the meeting of the National Institutes of Mental Health Special Emphasis Panel, October 18, 2000, 8:30 AM to October 19, 2000, 5:30 PM, Embassy Square, 2000 N Street, NW, Washington, DC, 20036 which was published in the Federal Register on September 21, 2000, 65 FR 57198.

The dates and times for the meeting are the same but the location has changed to the Woodfin Suites Hotel, 1380 Piccard Drive, Rockville, MD. The meeting is closed to the public.

Dated: September 26, 2000.
LaVerne Y. Stringfield,
Director, Office of Federal Advisory Committee Policy.

[FR Doc. 00-25541 Filed 10-4-00; 8:45 am]

BILLING CODE 4140-01-M